DEPARTMENT OF COMMERCE

National Oceanic and Atmospheric Administration

50 CFR Part 648

[Docket No. 170828822-70999-02]

RIN 0648-XF669

Fisheries of the Northeastern United States; Summer Flounder, Scup, Black Sea Bass Fisheries; 2018 and Projected 2019 Scup Specifications and Announcement of Final 2018 Summer Flounder and Black Sea Bass Specifications; Correction

AGENCY: National Marine Fisheries Service (NMFS), National Oceanic and Atmospheric Administration (NOAA), Commerce.

ACTION: Final rule; correction.

SUMMARY: On December 22, 2017, NMFS issued final specifications for scup, summer flounder, and black sea bass for 2018. That document inadvertently failed to apply a pound-for-pound overage deduction to the 2018 scup summer period quota due to overages incurred in 2017. Additionally, the Commonwealth of Massachusetts received a late-season summer flounder transfer applicable to the 2017 fishing year that adjusts its final 2018 state summer flounder quota. This document corrects the final 2018 specifications and informs the public of these adjustments.

DATES: Effective January 30, 2018, through December 31, 2018.

ADDRESSES: Copies of the specifications document, including the Environmental Assessment (EA), are available on request from Dr. Christopher M. Moore, Executive Director, Mid-Atlantic Fishery Management Council, Suite 201, 800 North State Street, Dover, DE 19901.

FOR FURTHER INFORMATION CONTACT: Emily Gilbert, Fishery Policy Analyst, (978) 281-9244.

SUPPLEMENTARY INFORMATION:

Need for Correction

The final 2018 specifcations for scup, summer flounder, and black sea bass published on December 22, 2017 (82 FR 60682). Following its publication, we became aware of two adjustments that need to be made that pertain to the scup and summer flounder commercial fishery quotas.

Adjustment to the Scup Summer Period Quota

Although the 2017 scup annual catch limit (ACL) was not exceeded, landings during the summer commercial quota period exceeded the 2017 summer period quota by 46,753 lb (21,206 kg). The regulations at § 648.123(a)(2)(ii) require any landings in excess of the summer period quota be deducted, pound for pound, from the summer period quota for the following year. As a result, this action adjusts the final 2018 scup summer period quota from 9,340,986 lb (4,237 mt) to 9,294,233 lb (4,216 mt) to account for the 2017 landings overage. Because the overall 2017 ACL was not exceeded, this action does not adjust the final 2018 ACL published on December 22, 2017.

Adjustment to the 2018 Summer Flounder Quota for Massachusetts

This action corrects the state quota allocated to Massachusetts by accounting for a transfer received in late December 2017. As a result of this transfer, Massachusetts received an additional 3,585 lb (1,626 kg) applied towards its 2017 quota. This results in an overage reduction from 37,816 lb (17,153 kg) to 34,231 lb (15,527 kg), which results in a revised 2018 quota of 404,742 lb (183,588 kg).

Corrections

On page 60683 of the Federal Register published on December 22, 2017, Table 2 is corrected to read as follows:

Table 2—Commercial Scup Quota Allocations for 2018 by Quota Period
Quota period | 2018 Initial quota: Percent share | 2018 Initial quota: lb | 2018 Initial quota: mt
Winter I | 45.11 | 10,820,000 | 4,908
Summer | 38.95 | 9,294,233 | 4,216
Winter II | 15.94 | 3,822,816 | 1,734
Total | 100.0 | 23,937,049 | 10,858
Note: Metric tons are as converted from pounds and may not necessarily total due to rounding.

Additionally, on page 60684, Table 6 is corrected to read as follows:

Table 6—Final State-by-State Commercial Summer Flounder Quotas for 2018
State | FMP percent share | 2018 Initial quota: lb | 2018 Initial quota: kg | 2018 Adjusted quota (ACL overage): lb | 2018 Adjusted quota (ACL overage): kg | Overages through October 31, 2017: lb | Overages through October 31, 2017: kg | Final adjusted 2018 quota, less overages: lb | Final adjusted 2018 quota, less overages: kg
Maine | 0.04756 | 3,152 | 1,430 | 3,061 | 1,388 | 0 | 0 | 3,061 | 1,388
New Hampshire | 0.00046 | 30 | 14 | 30 | 13 | 0 | 0 | 30 | 13
Massachusetts | 6.82046 | 451,998 | 205,023 | 438,973 | 199,115 | 34,231 | 15,527 | 404,742 | 183,588
Rhode Island | 15.68298 | 1,039,326 | 471,430 | 1,009,375 | 457,845 | 13,002 | 5,898 | 996,373 | 451,947
Connecticut | 2.25708 | 149,579 | 67,848 | 145,268 | 65,893 | 0 | 0 | 145,268 | 65,893
New York | 7.64699 | 506,773 | 229,868 | 492,169 | 223,244 | 0 | 0 | 492,169 | 223,244
New Jersey | 16.72499 | 1,108,381 | 502,753 | 1,076,440 | 488,265 | 0 | 0 | 1,076,440 | 488,265
Delaware | 0.01779 | 1,179 | 535 | 1,145 | 519 | 49,638 | 22,515 | −48,493 | −21,996
Maryland | 2.0391 | 135,133 | 61,295 | 131,239 | 59,529 | 0 | 0 | 131,239 | 59,529
Virginia | 21.31676 | 1,412,682 | 640,782 | 1,371,972 | 622,316 | 0 | 0 | 1,371,972 | 622,316
North Carolina | 27.44584 | 1,818,862 | 825,022 | 1,766,447 | 801,247 | 0 | 0 | 1,766,447 | 801,247
Total | 100 | 6,627,096 | 3,006,000 | 6,436,120 | 2,919,375 |  |  | 6,387,743 | 2,897,431
Notes: Kilograms are as converted from pounds and may not necessarily add due to rounding. Total quota is the sum for all states with an allocation. A state with a negative number has a 2018 allocation of zero (0). Total adjusted 2018 quota, less overages, does not include negative allocations (i.e., Delaware's overage).

Authority: 16 U.S.C. 1801 et seq.

Dated: January 24, 2018.
Samuel D. Rauch, III,
Deputy Assistant Administrator for Regulatory Programs, National Marine Fisheries Service.

[FR Doc. 2018-01672 Filed 1-29-18; 8:45 am]

BILLING CODE 3510-22-P